DEPARTMENT OF COMMERCE

International Trade Administration

[A-201-844]

Steel Concrete Reinforcing Bar From Mexico: Antidumping Duty Order

AGENCY: Enforcement and Compliance, International Trade Administration, Department of Commerce.

SUMMARY: Based on an affirmative final determination by the Department of Commerce (the Department) and the International Trade Commission (ITC), the Department is issuing an antidumping duty (AD) order on steel concrete reinforcing bar (rebar) from Mexico.

DATES: Effective Date: November 6, 2014.

FOR FURTHER INFORMATION CONTACT: Stephanie Moore or Joy Zhang, Office III, AD/CVD Operations, Enforcement and Compliance, International Trade Administration, U.S. Department of Commerce, 14th Street and Constitution Avenue NW., Washington, DC 20230; telephone: (202) 482-3692 or (202) 482-1168.

SUPPLEMENTARY INFORMATION:

Background

In accordance with sections 735(d) and 777(i)(1) of the Tariff Act of 1930, as amended (the Act), and 19 CFR 351.210(c), on September 15, 2014, the Department published its affirmative final determination of sales at less-than-fair-value (LTFV) in the antidumping duty investigation of rebar from Mexico.¹ On October 28, 2014, the ITC notified the Department of its final determination, pursuant to sections 735(b)(1)(A)(i) and section 735(d) of the Act, that an industry in the United States is materially injured by reason of LTFV imports of rebar from Mexico.² The ITC also determined that critical circumstances do not exist.³

¹ See Steel Concrete Reinforcing Bar From Mexico: Final Determination of Sales at Less Than Fair Value and Final Affirmative Determination of Critical Circumstances, 79 FR 54967 (September 15, 2014) (Final Determination).

² See Steel Concrete Reinforcing Bar From Mexico and Turkey, Investigation Nos. 701-TA-502 and 731-TA-1227 (Final), USITC Publication 4496, (October 2014).

³ Id.

Scope of the Order

The merchandise subject to this order is steel concrete reinforcing bar imported in either straight length or coil form (rebar) regardless of metallurgy, length, diameter, or grade. The subject merchandise is classifiable in the Harmonized Tariff Schedule of the United States (HTSUS) primarily under item numbers 7213.10.0000, 7214.20.0000, and 7228.30.8010.

The subject merchandise may also enter under other HTSUS numbers including 7215.90.1000, 7215.90.5000, 7221.00.0015, 7221.00.0030, 7221.00.0045, 7222.11.0001, 7222.11.0057, 7222.11.0059, 7222.30.0001, 7227.20.0080, 7227.90.6085, 7228.20.1000, and 7228.60.6000. Specifically excluded are plain rounds (i.e., non-deformed or smooth rebar). Also excluded from the scope is deformed steel wire meeting ASTM A1064/A1064M with no bar markings (e.g., mill mark, size or grade) and without being subject to an elongation test. HTSUS numbers are provided for convenience and customs purposes; however, the written description of the scope remains dispositive.

Antidumping Duty Order

As stated above, on October, 28, 2014, in accordance with section 745(d) of the Act, the ITC notified the Department of its final determination in which it found that an industry in the United States is materially injured by reason of imports of rebar from Mexico.⁴ Therefore, in accordance with section 735(c)(2) of the Act, we are publishing this AD order.

⁴ Id.

Further, pursuant to section 736(a) of the Act, the Department will direct U.S. Customs and Border Protection (CBP) to assess, upon further instruction by the Department, AD duties equal to the amounts listed below for all relevant entries of rebar from Mexico entered, or withdrawn from warehouse, for consumption on or after April 24, 2014, the date of publication of the Preliminary Determination,⁵ but will not include entries occurring after the expiration of the provisional measures period and before the publication of the ITC's final injury determination as further described below.

⁵ See Steel Concrete Reinforcing Bar From Mexico: Preliminary Determination of Sales at Less Than Fair Value, Preliminary Affirmative Determination of Critical Circumstances, and Postponement of Final Determination, 79 FR 22802 (April 24, 2014) (Preliminary Determination).

Continuation of Suspension of Liquidation

In accordance with section 736 of the Act, we will instruct CBP to continue to suspend liquidation on all entries of rebar from Mexico. We will also instruct CBP to require cash deposits at rates equal to the estimated weighted-average dumping margins indicated below. These instructions suspending liquidation will remain in effect until further notice.

Accordingly, effective on the date of publication of the ITC's final affirmative injury determination, CBP will require, at the same time as importers would normally deposit estimated duties on this subject merchandise, a cash deposit at rates equal to the estimated weighted-average dumping margins listed below.⁶ The relevant all-others rate applies to all producers or exporters not specifically listed.

⁶ See section 736(a)(3) of the Act.

Provisional Measures

Section 733(d) of the Act states that instructions issued pursuant to an affirmative preliminary determination may not remain in effect for more than four months except where exporters representing a significant proportion of exports of the subject merchandise request the Department to extend that four-month period to no more than six months. At the request of exporters that account for a significant proportion of rebar from Mexico, we extended the four-month period to no more than six months.⁷ The Department published the Preliminary Determination in the underlying investigation on April 24, 2014. Therefore, the six-month period beginning on the date of publication of the preliminary determination ended on October 21, 2014. Furthermore, section 737(b) of the Act states that definitive duties are to begin on the date of publication of the ITC's final injury determination.

⁷ See letter from Deacero S.A.P.I. de C.V. and Deacero USA, Inc., titled, “Steel Concrete Reinforcing Bar (“Rebar”) From Mexico: Request To Postpone the Final Determination,” dated April 15, 2014.

Therefore, in accordance with section 733(d) of the Act and our practice, we will instruct CBP to terminate the suspension of liquidation and to liquidate, without regard to antidumping duties, unliquidated entries of rebar from Mexico, entered, or withdrawn from warehouse, for consumption on or after October 21, 2014, the date the provisional measures expired, until and through the day preceding the date of publication of the ITC's final injury determination in the Federal Register. Suspension of liquidation will resume on or after the date of publication of the ITC's final injury determination in the Federal Register.

Estimated Weighted-Average Dumping Margins

The estimated weighted-average dumping margins are as follows:

Producer or exporter | Estimated weighted- average dumping margin (percent)
Deacero S.A.P.I. de C.V | 20.58
Grupo Acerero S.A. de C.V | 66.70
Grupo Simec | 66.70
All Others | 20.58

Critical Circumstances

With regard to the ITC's negative critical circumstances determination on imports of rebar from Mexico, the Department will instruct CBP to lift suspension and refund any cash deposit made to secure payment of estimated antidumping duties with respect to entries of the merchandise entered, or withdrawn from warehouse, for consumption on or after January 24, 2014, (i.e., 90 days prior to the publication date of the Preliminary Determination) but before April 24, 2014, the publication date of the Preliminary Determination.

Notification to Interested Parties

This notice constitutes the antidumping duty order with respect to rebar from Mexico pursuant to section 736(a) of the Act. Interested parties can find a list of antidumping duty orders currently in effect at http://enforcement.trade.gov/stats/iastats1.html.

This order is issued and published in accordance with section 736(a) of the Act and 19 CFR 351.211(b).

Dated: October 31, 2014.
Ronald K. Lorentzen,
Acting Assistant Secretary for Enforcement and Compliance.

[FR Doc. 2014-26411 Filed 11-5-14; 8:45 am]

BILLING CODE 3510-DS-P